DEPARTMENT OF ENERGY

Federal Energy Regulatory Commission

Combined Notice of Filings #1

Take notice that the Commission received the following electric rate filings:

Docket Numbers: ER10-2042-007; ER10-1874-001; ER10-1861-001; ER10-1993-001.

Applicants: Calpine Energy Services, L.P., Mankato Energy Center, LLC, RockGen Energy, LLC, Riverside Energy Center, LLC.

Description: Updated Market Power Analysis of Calpine Energy Services, L.P., et al.

Filed Date: 7/2/12.

Accession Number: 20120702-5348.

Comments Due: 5 p.m. ET 8/31/12.

Docket Numbers: ER12-30-002; ER11-47-002; ER11-46-005; ER10-2975-005; ER10-2981-002; ER11-41-002.

Applicants: BlueStar Energy Services Inc., Appalachian Power Company, AEP Energy Partners, Inc., CSW Energy Services, Inc., AEP Texas Central Company, AEP Retail Energy Partners.

Description: Triennial update for market based rate authority for AEP West by American Electric Power Service Corporation.

Filed Date: 6/29/12.

Accession Number: 20120629-5300.

Comments Due: 5 p.m. ET 8/28/12.

Docket Numbers: ER12-2173-000.

Applicants: New York State Electric & Gas Corporation.

Description: Cayuga Non-conforming Large Generator Interconnection Agreement to be effective 6/29/2012.

Filed Date: 7/2/12.

Accession Number: 20120702-5342.

Comments Due: 5 p.m. ET 7/23/12.

Docket Numbers: ER12-2173-001.

Applicants: New York State Electric & Gas Corporation.

Description: Errata to Cayuga Non-conforming Large Generator Interconnection Agreement to be effective 6/29/2012.

Filed Date: 7/3/12.

Accession Number: 20120703-5169.

Comments Due: 5 p.m. ET 7/24/12.

Docket Numbers: ER12-2193-000.

Applicants: New York State Electric & Gas Corporation.

Description: Somerset Non-conforming Large Generator Interconnection Agreement to be effective 6/29/2012.

Filed Date: 7/2/12.

Accession Number: 20120702-5344.

Comments Due: 5 p.m. ET 7/23/12.

Docket Numbers: ER12-2193-001.

Applicants: New York State Electric & Gas Corporation.

Description: Errata to Somerset Non-conforming Large Generator Interconnection Agreement to be effective 6/29/2012.

Filed Date: 7/5/12.

Accession Number: 20120705-5001.

Comments Due: 5 p.m. ET 7/26/12.

Docket Numbers: ER12-2199-000.

Applicants: PJM Interconnection, L.L.C.

Description: Original Service Agreement No. 3340—Queue Position X3-052 to be effective 6/6/2012.

Filed Date: 7/3/12.

Accession Number: 20120703-5137.

Comments Due: 5 p.m. ET 7/24/12.

Docket Numbers: ER12-2200-000.

Applicants: Mehoopany Wind Energy LLC.

Description: MBR Application of Mehoopany Wind Energy LLC to be effective 8/31/2012.

Filed Date: 7/3/12

Accession Number: 20120703-5147.

Comments Due: 5 p.m. ET 7/24/12.

Docket Numbers: ER12-2201-000.

Applicants: Harvest II Windfarm, LLC.

Description: Application for Market-Based Rate Authorization to be effective 9/1/2012.

Filed Date: 7/3/12.

Accession Number: 20120703-5153.

Comments Due: 5 p.m. ET 7/24/12.

Docket Numbers: ER12-2202-000.

Applicants: New York Independent System Operator, Inc., Niagara Mohawk Power Corporation.

Description: Correction of Service. Agreement Number for Cost Reimbursement Agreement to be effective 1/9/2012.

Filed Date: 7/3/12.

Accession Number: 20120703-5157.

Comments Due: 5 p.m. ET 7/24/12.

Docket Numbers: ER12-2203-000.

Applicants: GUSC Energy Inc.

Description: GUSC Energy MBR Application to be effective 9/3/2012.

Filed Date: 7/3/12.

Accession Number: 20120703-5170.

Comments Due: 5 p.m. ET 7/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2012.
Nathaniel J. Davis, Sr.,
Deputy Secretary.

[FR Doc. 2012-17157 Filed 7-12-12; 8:45 am]

BILLING CODE 6717-01-P